DEPARTMENT OF TRANSPORTATION

Federal Motor Carrier Safety Administration

[Docket No. FMCSA-2000-8033]

Agency Information Collection Activities Under OMB Review: OMB Control No. 2126-0010 (Motor Carrier Safety Assistance Program)

AGENCY: Federal Motor Carrier Safety Administration, DOT.

ACTION: Notice; request for comments.

SUMMARY: The FMCSA announces that the Information Collection Request (ICR) described in this notice has been sent to the Office of Management and Budget (OMB) for review and approval. The FMCSA is requesting OMB's continued approval of the information that is required for the Motor Carrier Safety Assistance Program. The ICR describes the information collection and its expected cost and burden. The Federal Register notice allowing for a 60-day comment period on this information collection was published on November 1, 2000 (65 FR 65372). We are required to send ICRs to OMB under the Paperwork Reduction Act.

DATES: Please submit comments by July 6, 2001.

FOR FURTHER INFORMATION CONTACT: Mr. James D. McCauley, (202) 366-0133, Office of Safety Programs, Federal Motor Carrier Safety Administration, 400 Seventh Street SW., Washington, DC 20590. Office hours are from 7:30 a.m. to 4:00 p.m., e.t., Monday through Friday, except Federal holidays.

ADDRESS: Send comments to the Office of Information and Regulatory Affairs, Office of Management and Budget, 725 Seventeenth Street NW., Washington, DC 20503, Attention: DOT Desk Officer. We particularly request your comments on whether the collection of information is necessary for the FMCSA to meet its goal of reducing truck crashes, including whether the information is useful to this goal; the accuracy of the estimate of the burden of the information collection; ways to enhance the quality, utility and clarity of the information collected; and ways to minimize the burden of the collection of information on respondents, including the use of automated collection techniques or other forms of information technology. OMB wants to receive comments within 30 days of publication of this notice in order to act on the ICR quickly.

SUPPLEMENTARY INFORMATION: Title: Motor Carrier Safety Assistance Program (MCSAP).

OMB Approval Number: 2126-0010.

Background: Sections 401-404 of the Surface Transportation Assistance Act of 1982 (STAA) established a program of financial assistance to States for the purpose of implementing programs to enforce (a) Federal rules, regulations, standards, and orders applicable to commercial motor vehicle safety; and (b) compatible State rules, regulations, standards, and orders. This grant-in-aid program is known as the Motor Carrier Safety Assistance Program (MCSAP). The Intermodal Surface Transportation Efficiency Act of 1991 (ISTEA) added programs, such as drug interdiction, traffic enforcement, and size and weight activities to the core program established by the STAA.

The Transportation Equity Act for the 21st Century (TEA-21) further revised the MCSAP by broadening its purpose beyond enforcement activities and programs by requiring participating States to assume greater responsibility for improving motor carrier safety. The TEA-21 required States to develop performance-based plans reflecting national priorities and performance goals, revised the MCSAP funding distribution formula, and created a new incentive funding program. As a result, States are given greater flexibility in designing programs to address national and State goals for reducing the number and severity of commercial motor vehicle (CMV) accidents. The implementing regulations were published in a final rule in the March 21, 2000, Federal Register at 65 FR 15092.

In order to qualify for a grant, participating States must submit a Commercial Vehicle Safety Plan (CVSP). After the grant is awarded, States must submit inspection data and quarterly reports explaining work activities and accomplishments. The FMCSA monitors and evaluates a State's progress under its approved CVSP. The agency also determines whether a change in the State's level of effort is required to meet the intended objectives of the CVSP. If a State fails to operate within the guidelines of the approved CVSP or does not remedy any identified deficiencies or incompatibilities in a timely manner, the FMCSA may cease participation in that State's CVSP. This information collection provides the basis for these responsibilities and decisions.

The quarterly report and inspection data are collected electronically. States continue to submit the CVSP in hard copy. The estimated annual burden for this collection has been significantly reduced due to increased use of information technology.

The FMCSA published the required notice offering a 60-day comment period on the ICR on November 1, 2000 (65 FR 65372). We received two comments, which are addressed in the supporting statement the agency submitted to OMB. Requests for information on the supporting statement should be directed to the Information Contact provided in this Notice.

Respondents: State and local MCSAP lead agencies.

Estimated Total Annual Burden: Grant application preparation: 848 hours; quarterly report preparation: 339 hours; inspection data upload: 7,333 hours. The above figures reflect 20 percent of the total estimated hours to perform the activities listed since MCSAP reimburses up to 80 percent of the eligible costs incurred in the administration of an approved plan as set forth in 49 CFR 350.303, 350.309 and 350.311.

Authority: The Paperwork Reduction Act of 1995, 44 U.S.C. chapter 35, as amended; and 49 CFR 1.73.

Issued on: May 31, 2001.
Stephen E. Barber,
Acting Deputy Administrator.

[FR Doc. 01-14238 Filed 6-5-01; 8:45 am]

BILLING CODE 4910-EX-P